DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's List of Specially Designated Nationals and Blocked Persons (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On October 17, 2022, OFAC determined that the property and interests in property subject to U.S. jurisdiction of the following persons are blocked under the relevant sanctions authority listed below.

Individuals

1. BADAAS, Mohamed Ali (a.k.a. BA DAS, Muhammad Ali; a.k.a. BADAS, Mohamed Ali), 'Azzan, Shabwah Governorate, Yemen; DOB 1965; POB al-Juwayl Mayfah, Shabwah Governorate, Yemen; nationality Yemen; Gender Male; Secondary sanctions risk: section 1(b) of Executive Order 13224, as amended by Executive Order 13886 (individual) [SDGT] (Linked To: AL-SHABAAB).

Designated pursuant to section 1(a)(iii)(C) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (E.O. 13224, as amended), for having materially assisted, sponsored, or provided financial, material, or technological support for, or goods or services to or in support of, AL-SHABAAB, a person whose property and interests in property are blocked pursuant to E.O. 13224, as amended.

2. MATAAN, Ahmed Hasan Ali Sulaiman (a.k.a. SULAIMAN, Ahmad Matan Hassan Ali; a.k.a. “MATAAN, Ahmad”; a.k.a. “MATAAN, Ahmed”), Al Mahrah, Yemen; DOB 1966; POB Qandala, Somalia; nationality Yemen; Gender Male; Secondary sanctions risk: section 1(b) of Executive Order 13224, as amended by Executive Order 13886 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224, as amended.

3. SALAD, Mohamed Hussein, Al Mukalla, Yemen; DOB Jan 1965; POB Bargal, Puntland, Somalia; nationality Somalia; Gender Male; Secondary sanctions risk: section 1(b) of Executive Order 13224, as amended by Executive Order 13886 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224, as amended.

4. ADALE, Khalif (a.k.a. ABDALE, Qaaliif; a.k.a. CADALE, Qaliif; a.k.a. CADE, Qaliif; a.k.a. KHALIF, Adale; a.k.a. WARSAME, Khalif Mohamed), Qunyo Barrow, Middle Juba, Somalia; Buulo Fulaay, Somalia; DOB 01 Jan 1964; alt. DOB 01 Jan 1968; POB Somalia; nationality Djibouti; Gender Male; Secondary sanctions risk: section 1(b) of Executive Order 13224, as amended by Executive Order 13886; Passport 11120061B (Djibouti) (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224, as amended.

5. AFGOOYE, Hassan (a.k.a. AFGOYE, Hassan), Qunyo Barrow, Middle Juba, Somalia; Jilib, Somalia; DOB 01 Jan 1966; nationality Somalia; Gender Male; Secondary sanctions risk: section 1(b) of Executive Order 13224, as amended by Executive Order 13886 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224, as amended.

6. GAGAALE, Abdikarim Hussein (a.k.a. “AL-ANSARI, Isse”; a.k.a. “ISSE, Abdikarin”), Qunyo Barrow, Middle Juba, Somalia; DOB 1984; alt. DOB 1985; alt. DOB 1986; nationality Somalia; Gender Male; Secondary sanctions risk: section 1(b) of Executive Order 13224, as amended by Executive Order 13886 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224, as amended.

7. JEERI, Abdullahi (a.k.a. JERI, Abdullahi), Qunyo Barrow, Middle Juba, Somalia; Ceel Buur, Galguduud, Somalia; DOB 1976; nationality Somalia; Gender Male; Secondary sanctions risk: section 1(b) of Executive Order 13224, as amended by Executive Order 13886 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224, as amended.

8. NUREY, Abdirahman (a.k.a. NOOR, Abdirahman; a.k.a. NUREY, Abdelrahman; a.k.a. NUURE, Abdirahman; a.k.a. NUURI, Abdirahman; a.k.a. RAAGE, Abdirahman Nuure), Baraawe, Lower Shabelle, Somalia; DOB 1968; nationality Somalia; Gender Male; Secondary sanctions risk: section 1(b) of Executive Order 13224, as amended by Executive Order 13886 (individual) [SDGT] (Linked To: AL-SHABAAB).

Designated pursuant to section 1(a)(iii)(C) E.O. 13224, as amended, for having materially assisted, sponsored, or provided financial, material, or technological support for, or goods or services to or in support of, AL-SHABAAB, a person whose property and interests in property are blocked pursuant to E.O. 13224, as amended.

9. SAMAD, Abdi (a.k.a. “GALJE'EL, Abdisamad”; a.k.a. “HAWIYE, Abdisamad”), Kurtunwaarey, Lower Shabelle, Somalia; DOB 1988; nationality Somalia; Gender Male; Secondary sanctions risk: section 1(b) of Executive Order 13224, as amended by Executive Order 13886 (individual) [SDGT] (Linked To: AL-SHABAAB).

Designated pursuant to section 1(a)(iii)(C) of E.O. 13224, as amended, for having materially assisted, sponsored, or provided financial, material, or technological support for, or goods or services to or in support of, AL-SHABAAB, a person whose property and interests in property are blocked pursuant to E.O. 13224, as amended.

Dated: October 17, 2022.
Andrea M. Gacki,
Director, Office of Foreign Assets Control, U.S. Department of the Treasury.

[FR Doc. 2022-22812 Filed 10-19-22; 8:45 am]

BILLING CODE 4810-AL-P